DEPARTMENT OF AGRICULTURE

Forest Service

Olympic Provincial Advisory Committee; Notice of Meeting

AGENCY: Forest Service, USDA.

ACTION: Notice of meeting.

SUMMARY: The Olympic Province Advisory Committee (OPAC) will meet on Friday, February 10, 2006. The meeting will be held at the Olympic National Forest Headquarters office, 1835 Black Lake Blvd., SW., Olympia, Washington. The meeting will begin at 9:30 a.m., and end at approximately 3 p.m.

The OPAC provides advice to facilitate successful implementation of the Northwest Forest Plan and better integrate forest management activities between Federal and non-Federal entities. Agenda topics are: 10 Year Report on the Northwest Forest Plan; 2005 Olympic National Forest Implementation Monitoring; Stewardship Contracting Update; Fisher Reintroduction; Open Forum; and Public Comments.

All Olympic Province Advisory Committee meetings are open to the public. A public comment period will be at 2:45 p.m., interested citizens are encouraged to attend.

FOR FURTHER INFORMATION CONTACT: Karl Denison, Olympic National Forest Headquarters, 1835 Black Lake Blvd., SW., Olympia, WA 98512-5623, (360) 956-2306.

Dated: January 12, 2006.
Dale Hom,
Forest Supervisor.

[FR Doc. 06-506 Filed 1-19-06; 8:45 am]

BILLING CODE 3410-11-M